DEPARTMENT OF THE INTERIOR

Bureau of Land Management

[CACA 048810 and CACA 048811, LLCAD06000 L5101 ER0000 LVRBW09B26000]

Notice of Intent To Prepare Two Environmental Impact Statements/Staff Assessments for the Proposed Chevron Energy Solutions/Solar Millennium Palen and Blythe Solar Power Plants, Riverside County, CA and Possible Land Use Plan Amendments

AGENCY: Bureau of Land Management, Interior.

ACTION: Notice of intent.

SUMMARY: In compliance with the National Environmental Policy Act (NEPA) of 1969, as amended, the Federal Land Policy and Management Act of 1976, as amended, and the California Environmental Quality Act (CEQA), the Bureau of Land Management (BLM) Palm Springs South Coast Field Office, Palm Springs, California, together with the California Energy Commission (CEC), intend to prepare two Environmental Impact Statements (EIS)/Staff Assessments (SAs), which may include an amendment to the California Desert Conservation Area (CDCA) Plan (1980, as amended) and by this notice are announcing the beginning of the scoping process to solicit public comments and identify issues.

DATES: This notice initiates the public scoping process for the Draft EIS/SAs and possible plan amendment. Comments on issues may be submitted in writing until December 23, 2009. The dates and locations of scoping meetings, information hearings, and site visits will be announced at least 15 days in advance through local media and the BLM Web site at: http://www.blm.gov/ca/st/en/fo/palmsprings.html and the CEC Web sites at http://www.energy.ca.gov/sitingcases/solar_millennium_palen/index.html and http://www.energy.ca.gov/sitingcases/solar_millennium_blythe/index.html. To be considered in the Draft EIS/SAs, all comments must be received prior to the close of the scoping period or 15 days after the last public meeting, whichever is later. We will provide additional opportunities for public participation upon publication of the Draft EIS/SAs.

ADDRESSES: You may submit comments on issues and planning criteria related to the Proposed Chevron Energy Solutions/Solar Millennium Palen and Blythe Solar Power Plants EIS/SAs and CDCA Plan amendment by any of the following methods:

• E-mail: asolomon@energy.state.ca.us, CAPSSolarPalen@blm.gov, or CAPSSolarBlythe@blm.gov.

• Fax: (760) 833-7199.

• Mail or hand delivery: Alan Solomon, Project Manager, Siting, Transmission and Environmental Protection Division, CEC, 1516 Ninth Street, MS-15, Sacramento, California 95814 or Holly L. Roberts, Project Manager, Palm Springs-South Coast Field Office, BLM, 1201 Bird Center Drive, Palm Springs, California 92262.

The administrative record of this proposal may be examined at the Palm Springs South Coast Field Office during normal business hours.

FOR FURTHER INFORMATION CONTACT: For further information or to have your name added to our mailing list, contact Alan Solomon, CEC project manager at telephone (916) 653-8236, or address 1516 Ninth Street, MS-15, Sacramento, CA 95814, or e-mail asolomon@energy.state.ca.us; or Allison Shaffer, BLM project manager at telephone (760) 833-7100, or address Palm Springs-South Coast Field Office, BLM, 1201 Bird Center Drive, Palm Springs, California 92262, or e-mail CAPSSolarPalen@blm.gov or CAPSSolarBlythe@blm.gov. Information on participating in the CEC's review of the project may also be obtained through the CEC's Public Advisor's Office at (916) 654-8236 or toll free in California, (800) 822-6228, or by e-mail: publicadviser@energy.state.ca.us. News media inquiries should be directed to the CEC's media office at (916) 654-4989, or mediaoffice@energy.state.ca.us. You can also subscribe to an email notification list of all notices at: http://www.energy.ca.gov/listservers.

SUPPLEMENTARY INFORMATION: Chevron Energy Solutions/Solar Millennium (CESSM) has applied for two separate right-of-way (ROW) authorizations to construct and operate the Palen and Blythe solar thermal power plants in eastern Riverside County, California with an expected combined capacity of 1,452 megawatts (MW) using solar parabolic trough generating stations. Approximately 10,100 acres of BLM-administered public land are needed to develop the two projects.

Pursuant to the BLM's CDCA Plan, sites associated with power generation or transmission not identified in the CDCA Plan will be considered through the plan amendment process. Under Federal law, the BLM is responsible for processing requests for ROWs to authorize solar projects and associated transmission lines and other associated facilities on the land it manages. Under California law, the CEC is responsible for reviewing applications for certification (AFC) filed for thermal power plants over 50 MW. The CEC also serves as lead agency for the environmental review of such projects under CEQA. On August 24, 2009, CESSM submitted to the CEC AFCs for the Palen and Blythe projects.

The Palen site is 10 miles east of Desert Center, California and a half mile north of Interstate 10; the Blythe site is eight miles west of Blythe, California and three miles north of Interstate 10. The Palen facility will be constructed in two phases, while the Blythe facility will be constructed in four phases.

The proposed Palen Solar Power Project would consist of two parabolic trough solar thermal power plants, each of which would have a solar field comprised of rows of parabolic mirrors focusing solar energy on collector tubes. The tubes would carry heated oil to a boiler, which would then send steam to a turbine. The two phases would generate approximately 484 MW of electricity. The two power plants would share administrative buildings, parking areas, maintenance buildings, switch yards, bioremediation areas, wastewater treatment facilities, access and maintenance roads, and perimeter fencing. The project would also include a natural gas pipeline, communication lines, and a 230 kV transmission line. The total expected project footprint would be approximately 3,800 acres. During construction, the project would require approximately 1,100 acre-feet of water for dust control and soil compaction. During operation, the project would require approximately 300 acre-feet of water per year. CESSM proposes to use water from new wells.

The proposed Blythe Solar Power Project would consist of four parabolic trough solar thermal power plants similar to the Palen project. The four power plants would generate approximately 968 MW of electricity. All four plants would share administrative buildings, parking areas, maintenance buildings, switch yards, bioremediation areas, wastewater treatment facilities, access and maintenance roads, and perimeter fencing. The project would also include a natural gas pipeline, communication lines, and a 500 kV transmission line. The total expected project footprint would be approximately 6,300 acres. During construction, the project would require approximately 3, 100 acre feet of water for dust control and soil compaction. During operation, the project would require approximately 600 acre-feet of water per year. CESSM proposes to use water from new wells. If approved, both projects would begin construction in late 2010. The purpose of the public scoping process is to determine relevant issues that will influence the scope of the environmental analysis, including alternatives, and guide the process for developing the EISs. The BLM has identified the following preliminary issues: special area designations, air quality, biological resources, hazardous materials, recreation, cultural resources, water resources, geological resources, land use, noise, paleontological resources, public health, socioeconomics, soils, traffic and transportation, and visual resources.

Authorization of these proposals may require amendment of the CDCA Plan. By this notice, the BLM is complying with requirements in 43 CFR 1610.2(c) to notify the public of potential amendments to land use plans, subject to the findings of the EISs. If a land use plan amendment is necessary, the BLM will integrate the land use planning process with the NEPA process for these projects.

The BLM will use the NEPA commenting process to satisfy the public involvement process for Section 106 of the National Historic Preservation Act (16 U.S.C. 470f) as provided for in 36 CFR 800.2(d)(3). Native American Tribal consultations will be conducted and Tribal concerns will be given due consideration, including impacts on Indian trust assets. Federal, State, and local agencies, along with Tribes and other stakeholders that may be interested or affected by the BLM's decision on this project, are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7 and 43 CFR 1610.2.

Tom Pogacnik,
Deputy State Director for Natural Resources, BLM California State Office.

[FR Doc. E9-27961 Filed 11-20-09; 8:45 am]

BILLING CODE 4310-40-P